DEPARTMENT OF THE INTERIOR

National Park Service

Notice of Availability of Draft Wilderness Management Plan, Commercial Services Plan, Interpretive Plan, and Resource (Cultural and Natural) Management Plan and Draft Environmental Impact Statement (DPlans/DEIS) for Cumberland Island National Seashore, St. Marys, Georgia

SUMMARY: Pursuant to section 102(2)(c) of the National Environmental Policy Act of 1969 (16 U.S.C. 410ccc-4; 42 U.S.C. 4371; 40 CFR 1503) the National Park Service (NPS) announces the availability of the DPlans/DEIS.

These documents have been prepared in cooperation with a committee of the National Park System Advisory Board. The Board forwarded its recommendations to the Director of the National Park Service and the Secretary of the Interior.

This DPlans/DEIS presents a range of alternatives for guiding future management of the national seashore and balancing resource protection and public use. It also includes an analysis of the potential consequences of these actions. The major subject areas are natural and cultural resources management, wilderness management, long range interpretation, and commercial services.

DATES: There will be a 120-day comment period beginning with the Environmental Protection Agency's publication of its notice in the Federal Register.

ADDRESSES: Comments should be mailed to the Southeast Regional Office, National Park Service, 1924 Building, 100 Alabama Street, SW, Atlanta, Georgia 30303. The National Park Service will host public meetings on the Draft Plans and Draft EIS at the following locations:

January 17, 2001—5 to 7 p.m.—Camden County Library, 1410 Georgia Highway 40E, Kingsland, Georgia 31548

January 18, 2001—1 to 3 p.m.—Martin Luther King, Jr. NHS, Visitor Center, 450 Auburn Avenue, N.E., Atlanta, Georgia 30312

January 18, 2001—6 to 8 p.m.—Same location above.

The DPlans/DEIS will be available for review at the public libraries and National Park Service sites listed below:

St. Marys Public Library, 101 Herb Bauer Drive, St. Marys, Georgia 31558

Jacksonville Library, 122 North Ocean Street, Jacksonville, Florida 32202

Atlanta-Fulton County Library, Sandy Springs Branch, 395 Mount Vernon Highway, Atlanta, Georgia 30328

Camden County Library, 1410 Highway 40 East, Kingsland, Georgia 31548

Fernandina Beach Library, 25 North 4th Street, Fernandina Beach, Florida 32034

Cumberland Island National Seashore, Museum-Conference Room, 129 Osborne Street, St. Marys, Georgia 31558

Brunswick (Glynn County) Library, 208 Glouchester Street, Brunswick, Georgia 31250

Atlanta-Fulton County Library, 1 Margaret Mitchell Square, 2nd Floor, Atlanta, Georgia 30303

Cumberland Island National Seashore Visitor Center, 107 St. Marys Street, St. Marys, Georgia 31558

St. Simons Library, 530 Beachview Drive, Unit A, St. Simons Island, Georgia 31522

Southeast Regional Office, National Park Service, 1924 Building, 100 Alabama Street, SW, Atlanta, Georgia 30303

Atlanta-Fulton County Library, Buckhead Branch, 269 Buckhead Avenue, Atlanta, Georgia 30305

Cumberland Island National Seashore, Sea Camp Ranger Station, On the Island

FOR FURTHER INFORMATION CONTACT: Arthur Frederick, Superintendent, Cumberland National Seashore, P.O. Box 806, St. Marys, Georgia 31558, telephone (912) 882-4336.

SUPPLEMENTARY INFORMATION: Our practice is to make comments, including names and home addresses of respondents, available for public review during regular business hours. If you wish for us to withhold your name and/or address, you must state this prominently at the beginning of your comment. However, we will not consider anonymous comments. We will make all submissions from organizations or businesses, and from individuals identifying themselves as representatives or officials of organizations or businesses, available for public inspection in their entirety.

Dated: December 19, 2000.
Charlie L. Powell,
Regional Director, Southeast Region.

[FR Doc. 01-213 Filed 1-3-01; 8:45 am]

BILLING CODE 4310-70-M